DEPARTMENT OF THE INTERIOR

Bureau of Land Management

[WY-950-1420-00-P]

Filing of Plats of Survey; Wyoming

AGENCY: Bureau of Land Management, Interior.

ACTION: Notice.

The plats of the following described lands were officially filed in the Wyoming State Office, Bureau of Land Management, Cheyenne, Wyoming, effective 10 a.m., September 28, 2000.

The plat representing the dependent resurvey of a portion of the Thirteenth Standard Parallel North, through Range 75 West, the East and North boundaries and the subdivisional lines, T. 53 N., R. 75 W., Sixth Principal Meridian, Wyoming, Group No. 595, was accepted September 22, 2000.

The plat representing the dependent resurvey of a portion of the Thirteenth Standard Parallel North, through Range 74 West, a portion of the East boundary, the North boundary, and the subdivisional lines, T. 53 N., R. 74 W., Sixth Principal Meridian, Wyoming, Group No. 595, was accepted September 22, 2000.

The plat representing the corrective dependent resurvey of a portion of the subdivisional lines, T. 33 N., R. 118 W., Sixth Principal Meridian, Wyoming, Group No. 632, was accepted September 22, 2000.

The plat representing the dependent resurvey of a portion of the North boundary and the subdivisional lines, T. 49 N., R. 74 W., Sixth Principal Meridian, Wyoming, Group No. 634, was accepted September 22, 2000.

The plat representing the dependent resurvey of a portion of the West boundary, a portion of the subdivisional lines, and the subdivision of Section 30, T. 15 N., R. 107 W., Sixth Principal Meridian, Wyoming, Group No. 659, was accepted September 22, 2000.

The plat representing the dependent resurvey of a portion of the subdivisional lines, and the subdivision of Section 28, T. 19 N., R. 105 W., Sixth Principal Meridian, Wyoming, Group No. 665, was accepted September 22, 2000.

The plat representing the dependent resurvey of a portion of the subdivisional lines, T. 23 N., R. 86 W., Sixth Principal Meridian, Wyoming, Group No. 668, was accepted September 22, 2000.

The plat representing the subdivision of Section 35, T. 25 N., R. 85 W., Sixth Principal Meridian, Wyoming, Group No. 669, was accepted September 22, 2000.

Dated: September 28, 2000.
John P. Lee,
Chief Cadastral Survey Group.

[FR Doc. 00-26429 Filed 10-13-00; 8:45 am]

BILLING CODE 4310-22-P